OFFICE OF MANAGEMENT AND BUDGET

Request for Comments on a Draft Memorandum to the Heads of Executive Departments and Agencies, “Guidance for Regulation of Artificial Intelligence Applications”

AGENCY: Executive Office of the President, Office of Management and Budget.

ACTION: Notice of availability and request for comments.

SUMMARY: The Office of Management and Budget (OMB) requests comments on a draft Memorandum that provides guidance to all Federal agencies to inform the development of regulatory and non-regulatory approaches regarding technologies and industrial sectors that are empowered or enabled by artificial intelligence (AI) and consider ways to reduce barriers to the development and adoption of AI technologies. OMB guidance on these matters seeks to support the U.S. approach to free-market capitalism, federalism, and good regulatory practices (GRPs). The draft Memorandum calls on agencies, when considering regulations or policies related to AI applications, to promote advancements in technology and innovation, while protecting American technology, economic and national security, privacy, civil liberties, and other American values, including the principles of freedom, human rights, the rule of law, and respect for intellectual property. The draft Memorandum is available at https://www.whitehouse.gov/wp-content/uploads/2020/01/Draft-OMB-Memo-on-Regulation-of-AI-1-7-19.pdf.

DATES: Comments are requested on the draft Memorandum no later than March 13, 2020.

ADDRESSES: All comments should be submitted via http://www.regulations.gov. Please submit comments only and include your name, company name (if any), and cite “Guidance for Regulation of Artificial Intelligence Applications” in all correspondence. All comments received will be posted, without change or redaction, to www.regulations.gov, so commenters should not include information they do not wish to be posted (e.g., personal or confidential business information).

FOR FURTHER INFORMATION CONTACT: Alexander Hunt, Office of Management and Budget, Office of Information and Regulatory Affairs, at ahunt@omb.eop.gov.

SUPPLEMENTARY INFORMATION: Executive Order 13859, “Maintaining American Leadership in Artificial Intelligence,” which was issued on February 11, 2019, requires the Director of OMB, in coordination with the Director of the Office of Science and Technology Policy, the Director of the Domestic Policy Council, and the Director of the National Economic Council, to issue a memorandum that provides guidance to all Federal agencies to inform the development of regulatory and non-regulatory approaches regarding technologies and industrial sectors that are empowered or enabled by AI and consider ways to reduce barriers to the development and adoption of AI technologies.

Dominic J. Mancini,
Acting Administrator, Office of Information and Regulatory Affairs.

[FR Doc. 2020-00261 Filed 1-10-20; 8:45 am]

BILLING CODE 3110-01-P